DEPARTMENT OF DEFENSE

Office of the Secretary

Board of Regents of the Uniformed Services University of the Health Sciences

AGENCY: Uniformed Services University of the Health Sciences, DoD.

ACTION: Quarterly meeting notice.

SUMMARY: Under the provisions of the Federal Advisory Committee Act of 1972 (5 U.S.C., Appendix, as amended) and the Sunshine in the Government Act of 1976 (5 U.S.C. 552b, as amended), this notice announces the November 5, 2009, quarterly meeting of the Board of Regents of the Uniformed Services University (USU) of the Health Sciences.

DATES: The meeting will be held on Thursday, November 5, 2009.

The meeting will be open to the public from 8:30 a.m. to 10:30 a.m.

The meeting will be closed to the public from 10:30 a.m. to 11:30 a.m.

ADDRESSES: The meeting will be held at the Hyatt Regency Chesapeake Bay, 100 Heron Boulevard, Cambridge, Maryland 21613.

FOR FURTHER INFORMATION CONTACT: Janet S. Taylor, Designated Federal Official, 4301 Jones Bridge Road, Bethesda, Maryland 20814; telephone 301-295-3066.

Contact Ms. Taylor for base access procedures.

SUPPLEMENTARY INFORMATION: Purpose of the Meeting: Meetings of the Board of Regents assure that USU operates in the best traditions of academia. An outside Board is necessary for institutional accreditation.

Agenda

The actions that will take place include the approval of minutes from the Board of Regents Meeting held August 11, 2009; approval of faculty appointments and promotions in both the School of Medicine and the Graduate School of Nursing; and the awarding of master's and doctoral degrees in graduate nursing and the biomedical sciences. The University President will also present a report. These actions are necessary for the University to pursue its mission, which is to provide outstanding health care practitioners and scientists to the uniformed services.

Meeting Accessibility: Pursuant to Federal statute and regulations (5 U.S.C. 552b, as amended, and 41 CFR 102-3.140 through 102-3.165) and the availability of space, most of this meeting is open to the public. Seating is on a first-come basis. The closed portion of this meeting is authorized by 5 U.S.C. 552b(c)(6) as the subject matter involves personal and private observations.

Written Statements: Interested persons may submit a written statement for consideration by the Board of Regents. Individuals submitting a written statement must submit their statement to the Designated Federal Official at the address listed above. If such statement is not received at least 10 calendar days prior to the meeting, it may not be provided to or considered by the Board of Regents until its next open meeting. The Designated Federal Official will review all timely submissions with the Board of Regents Chairman and ensure such submissions are provided to Board of Regents Members before the meeting. After reviewing the written comments, submitters may be invited to orally present their issues during the November 2009 meeting or at a future meeting.

Dated: October 1, 2009.
Patricia L. Toppings,
OSD Federal Register Liaison Officer, Department of Defense.

[FR Doc. E9-24512 Filed 10-9-09; 8:45 am]

BILLING CODE 5001-06-P